DEPARTMENT OF JUSTICE

Drug Enforcement Administration

[Docket No. DEA-534]

Bulk Manufacturer of Controlled Substances Application: Cambridge Isotope Lab

ACTION: Notice of application.

DATES: Registered bulk manufacturers of the affected basic classes, and applicants therefore, may file written comments on or objections to the issuance of the proposed registration on or before January 13, 2020.

ADDRESSES: Written comments should be sent to: Drug Enforcement Administration, Attention: DEA Federal Register Representative/DPW, 8701 Morrissette Drive, Springfield, Virginia 22152.

SUPPLEMENTARY INFORMATION:

In accordance with 21 CFR 1301.33(a), this is notice that on July 24, 2019 Cambridge Isotope Lab, 50 Frontage Road, Andover, Massachusetts 01810-5413 applied to be registered as a bulk manufacturer of the following basic classes of controlled substances:

Controlled substance | Drug code | Schedule
Tetrahydrocannabinols | 7370 | I

The company plans to synthetically bulk manufacture the controlled substance to produce analytical standards for distribution to its customers. No other activity for this drug code is authorized for this registration.

Dated: October 29, 2019.
William T. McDermott,
Assistant Administrator.

[FR Doc. 2019-24544 Filed 11-8-19; 8:45 am]

BILLING CODE 4410-09-P